DEPARTMENT OF ENERGY

Federal Energy Regulatory Commission

[Docket No. EL05-62-001, et al.]

PJM Interconnection, L.L.C., et al.; Electric Rate and Corporate Filings

April 13, 2005.

The following filings have been made with the Commission. The filings are listed in ascending order within each docket classification.

1. PJM Interconnection, L.L.C.

[Docket No. EL05-62-001]

Take notice that on March 28, 2005, PJM Interconnection, L.L.C. submitted a compliance filing pursuant to the Commission's order issued February 25, 2005 in Docket No. ER04-1003-002, et al., 110 FERC ¶ 61,187 (2005).

Comment Date: 5 p.m. Eastern Time on April 22, 2005.

2. California Independent System Operator Corporation

[Docket Nos. ER03-218-006, ER03-219-006, EC03-81-003]

Take notice that on April 6, 2005, the California Independent System Operator Corporation (ISO) submitted a compliance filing pursuant to the Commission's order issued March 22, 2005 in Docket No. ER03-218-005, et al., 110 FERC ¶ 61,297 (2005).

The ISO states that the filing has been served on all parties on the official service list in these proceedings. In addition, the ISO states that the filing has been posted on the ISO home page.

Comment Date: 5 p.m. Eastern Time on April 27, 2005.

3. Midwest Independent Transmission System Operator, Inc.; Public Utilities with Grandfathered Agreements in the Midwest ISO Region

[Docket Nos. ER04-691-034, EL04-104-032]

Take notice that on April 6, 2005, the Midwest Independent Transmission System Operator, Inc. (Midwest ISO) submitted revisions to the Midwest ISO's Open Access Transmission and Energy Markets Tariff in compliance with certain requirements in the Commission's March 16, 2005 Order in Midwest Independent Transmission System Operator, Inc., et al., 110 FERC ¶ 61,289 (2005). The Midwest ISO has requested March 24, 2005 and April 1, 2005 effective dates for the tariff sheets submitted as part of this filing.

The Midwest ISO states that it has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at http://www.midwestiso.org under the heading “Filings to FERC” for other interested parties in this matter. Further, the Midwest ISO will provide hard copies to any interested parties upon request.

Comment Date: 5 p.m. Eastern Time on April 27, 2005.

4. JPMorgan Chase Bank, N.A.

[Docket No. ER05-283-003]

Take notice that on April 6, 2005, JPMorgan Chase Bank, N.A. (JPMCB) submitted a compliance filing pursuant to the Commission's letter order issued March 18, 2005 in JPMorgan Chase Bank, N.A., 110 FERC ¶ 61,292 (2005).

Comment Date: 5 p.m. Eastern Time on April 27, 2005.

5. American Transmission Company LLC

[Docket Nos. ER05-645-001, ER05-646-001]

Take notice that on April 7, 2005, American Transmission Company, LLC (ATCLLC) filed requests to amend its February 24, 2005 filings submitting distribution-transmission interconnection agreements between ATCLLC and Black Earth Electric Utilities and Hartford Electric originally submitted in Docket Nos. ER05-645-000 and ER05-646-000, respectively. ATCLLC requests that the distribution-transmission interconnection agreements be accepted, subject to the outcome of the Commission's decision on the rehearing request filed by ATCLLC in Docket No. ER05-237-001, et al.

Comment Date: 5 p.m. Eastern Time on April 22, 2005.

6. Wisconsin Electric Power Company

[Docket No. ER05-760-001]

Take notice that on April 6, 2005, Wisconsin Electric Power Company (Wisconsin Electric) tendered for filing an errata to its March 31, 2005 filing submitting Amendment No. 2 to the Joint Operating Agreement between Wisconsin Electric and Edison Sault Electric Company. Wisconsin Electric requests an effective date of April 1, 2005.

Comment Date: 5 p.m. Eastern Time on April 27, 2005.

7. California Independent System Operator Corporation

[Docket No. ER05-784-000]

Take notice that on April 6, 2005, the California Independent System Operator Corporation (ISO) tendered for filing a Dynamic Scheduling Host Control Area Operating Agreement (DSHCAOA) between the ISO and British Columbia Transmission Corporation (BCTC). ISO states that the purpose of the DSHCAOA is to establish the framework of operating requirements for the dynamic scheduling functionality and to require the host control area responsible for the functionality to comply with the applicable provisions of the ISO tariff, including the ISO dynamic scheduling protocol. The ISO requests an effective date of April 8, 2005.

The ISO states that the non-privileged elements of the filing have been served on BCTC, Powerex Corp., Bonneville Power Administration Transmission Business Line, the California Public Utilities Commission, and the California Electricity Oversight Board.

Comment Date: 5 p.m. Eastern Time on April 27, 2005.

8. California Independent System Operator Corporation

[Docket No. ER05-785-000]

Take notice that on April 6, 2005, the California Independent System Operator Corporation (ISO) tendered for filing a letter agreement between the ISO and Bonneville Power Administration Transmission Business Line (BPAT). ISO states that the purpose of the letter agreement is to establish the framework of operating requirements for BPAT's role as an intermediary control area for dynamic scheduling functionality to the ISO control area and to require the ISO and BPAT to comply with the applicable provisions of their respective protocols, standards, and practices regarding dynamic scheduling. The ISO requests an effective date of April 8, 2005.

The ISO states that the filing has been served on BPTA, Powerex Corp., British Columbia Transmission Corporation, the California Public Utilities Commission, and the California Electricity Oversight Board.

Comment Date: 5 p.m. Eastern Time on April 27, 2005.

9. California Independent System Operator Corporation

[Docket No. ER05-786-000]

Take notice that on April 6, 2005, the California Independent System Operator Corporation (ISO) tendered for filing a Dynamic Scheduling Agreement for Scheduling Coordinators (DSA) between the ISO and Powerex Corp. (Powerex). ISO states that the purpose of the DSA is to establish the framework of operating and scheduling requirements for the dynamic scheduling functionality and to require the Scheduling Coordinator responsible for operation of the functionality to comply with the applicable provisions of the ISO tariff, including the ISO dynamic scheduling protocol. The ISO requests an effective date of April 8, 2005.

The ISO states that the filing has been served on Powerex, Bonneville Power Administration Transmission Business Line, British Columbia Transmission Corporation, the California Public Utilities Commission, and the California Electricity Oversight Board.

Comment Date: 5 p.m. Eastern Time on April 27, 2005.

10. Gulf States Wholesale Equity Partners II, LP

[Docket No. ER05-787-000]

Take notice that on April 6, 2005, Gulf States Wholesale Equity Partners II, LP filed a petition for approval of its Rate Schedule FERC No. 1; the granting of certain blanket approvals, including the authority to sell electricity at market-based rates; and the waiver of certain Commission regulations. Gulf States Wholesale Equity Partners II, LP states that it intends to engage in wholesale electric power and energy purchases and sales as a marketer and is not in the business of generating or transmitting electric power.

Comment Date: 5 p.m. Eastern Time on April 27, 2005.

11. American Electric Power Service Corporation

[Docket No. ER05-788-000]

Take notice that on April 6, 2005, the American Electric Power Service Corporation (AEP) tendered for filing a Notice of Termination of an executed Interconnection and Operation Agreement between Indiana Michigan Power Company and Berrien Energy Center, LLC, designated as Service Agreement No. 522 under American Electric Power Operating Companies' Open Access Transmission Tariff. AEP requests an effective date of April 4, 2005.

AEP states that a copy of the filing was served on Berrien Energy Center, LLC, Indiana Utility Regulatory Commission, and the Michigan Public Service Commission.

Comment Date: 5 p.m. Eastern Time on April 27, 2005.

12. Indeck Pepperell Power Associates, Inc.

[Docket No. ER05-789-000]

Take notice that on April 6, 2005, Black Hills Corporation, on behalf of its subsidiary Black Hills Pepperell Power Associates, LLC, formerly known as Indeck Pepperell Power Associates, Inc. (Pepperell) filed a notice of cancellation of Pepperell's market-based rate wholesale power sales tariff and all service agreements under the tariff.

Comment Date: 5 p.m. Eastern Time on April 27, 2005.

13. El Segundo Power, LLC

[Docket No. ER05-791-000]

Take notice that on April 6, 2005, El Segundo Power, LLC (El Segundo) tendered for filing an amendment to Sheet Nos. 127 and 129 of its Rate Schedule FERC No. 2, Reliability Must-Run Service Agreement between El Segundo and the California Independent System Operator Corporation (CAISO). El Segundo requests an effective date of January 1, 2005 for Sheet No. 127 and May 1, 2005 for Sheet No. 129.

El Segundo states that copies of the filing were served on the CAISO, Southern Edison Company, the California Electricity Oversight Board and the California Public Utilities Commission.

Comment Date: 5 p.m. Eastern Time on April 27, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-1902 Filed 4-21-05; 8:45 am]

BILLING CODE 6717-01-P